NUCLEAR REGULATORY COMMISSION

[NRC-2010-0002]

Sunshine Federal Register Notice

Agency Holding the Meetings: Nuclear Regulatory Commission.

DATES: Weeks of May 24, 31, June, 7, 14, 21, 28, 2010.

Place: Commissioners' Conference Room, 11555 Rockville Pike, Rockville, Maryland.

Status: Public and closed.

Week of May 24, 2010

Thursday, May 27, 2010

9:25 a.m. Affirmation Session (Public Meeting) (Tentative).

a. South Texas Project Nuclear Operating Co. (South Texas Project Units 3 and 4), Intervenors' Notice of Appeal, Brief in Support of Intervenors' Appeal of Atomic Safety and Licensing Board's Order of January 29, 2010 (Feb. 9, 2010) (Tentative).

This meeting will be Webcast live at the Web address— http://www.nrc.gov.

9:30 a.m. Briefing on the Results of the Agency Action Review Meeting (AARM) (Public Meeting), (Contact: Nathan Sanfilippo, 301-415-3951).

This meeting will be Webcast live at the Web address— http://www.nrc.gov.

Week of May 31, 2010—Tentative

There are no meetings scheduled for the week of May 31, 2010.

Week of June 7, 2010—Tentative

Wednesday, June 9, 2010

1:30 p.m. Meeting with the Advisory Committee on Reactor Safeguards (Public Meeting), (Contact: Cayetano Santos, 301-415-7270).

This meeting will be Webcast live at the Web address— http://www.nrc.gov.

Week of June 14, 2010—Tentative

Thursday, June 17, 2010

9 a.m. Briefing on Blending (Public Meeting), (Contact: George Deegan, 301-415-7834).

This meeting will be webcast live at the Web address— http://www.nrc.gov.

Week of June 21, 2010—Tentative

There are no meetings scheduled for the week of June 21, 2010.

Week of June 28, 2010—Tentative

There are no meetings scheduled for the week of June 28, 2010.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: May 19, 2010.
Rochelle C. Bavol,
Office of the Secretary.

[FR Doc. 2010-12514 Filed 5-21-10; 11:15 am]

BILLING CODE 7590-01-P